DEPARTMENT OF LABOR

Office of Disability Employment Policy

Advisory Committee on Increasing Competitive Integrated Employment for Individuals With Disabilities; Notice of Meeting

The Advisory Committee on Increasing Competitive Integrated Employment for Individuals with Disabilities (the Committee) was mandated by section 609 of the Rehabilitation Act of 1973, as amended by section 461 of the Workforce Innovation and Opportunity Act (WIOA). The Secretary of Labor established the Committee on September 15, 2014, in accordance with the provisions of the Federal Advisory Committee Act (FACA), as amended, 5 U.S.C. App. 2. The purpose of the Committee is to study and prepare findings, conclusions and recommendations for Congress and the Secretary of Labor on (1) ways to increase employment opportunities for individuals with intellectual or developmental disabilities or other individuals with significant disabilities in competitive, integrated employment; (2) the use of the certificate program carried out under section 14(c) of the Fair Labor Standards Act (FLSA) of 1938 (29 U.S.C. 214(c)); and (3) ways to improve oversight of the use of such certificates.

The Committee is required to meet no less than eight times. The Committee submitted an Interim Report to the Secretary of Labor; the Senate Committee on Health, Education, Labor and Pensions; and the House Committee on Education and the Workforce on September 15, 2015. A Final Report must be submitted to the same entities no later than September 15, 2016. The Committee terminates one day after the submission of the Final Report.

The next meeting of the Committee will be open to the public and take place by Webinar on Wednesday, January 27, 2016 and Thursday, January 28, 2016. The meeting will take place each day from 1:00 p.m. to 5:00 p.m., Eastern Standard Time.

On January 27th and 28th, the Committee's four subcommittees will report to the whole Committee on their work since the submission of the Interim Report and their areas of focus for the Final Report. The four subcommittees are: The Transition to Careers Subcommittee, the Complexity and Needs in Delivering Competitive Integrated Employment Subcommittee, the Marketplace Dynamics Subcommittee, and the Building State and Local Capacity Subcommittee. The full Committee will then discuss the subcommittee report outs, and the appropriate areas of focus for the Final Report. The Committee will also discuss the use and oversight of 14(c) certificates with Dr. David Weil, Administrator, Wage and Hour Division.

Members of the public wishing to participate in the Webinar must register in advance of the meeting, by Friday, January 15, 2016, using the following link— http://bit.ly/1PT4xjj. This link will register members of the public for both days of the January meeting.

Members of the public who wish to address the Committee during the public comment period of the meeting on Wednesday, January 27, 2016 between 3:30 p.m. and 4:30 p.m., EST, should send their name, their organization's name (if applicable) and any additional materials (such as a copy of the proposed testimony) to David Berthiaume at Berthiaume.David.A@dol.gov or call Mr. Berthiaume at (202) 693-7887 by Friday, January 8, 2016. Please ensure that any attachments are in an accessible format or the submission will be returned. Also, note that public comments will be limited to five minutes in length. Due to time constraints, we will be able to accommodate up to 10 requests to address the Committee. If more than 10 requests are received, we will select a representative sample to speak and the remainder will be permitted to file written statements. Individuals with disabilities who need accommodations should also contact Mr. Berthiaume at the email address or phone number above.

Organizations or members of the public wishing to submit a written statement may do so by submitting their statement on or before January 8, 2016, to www.acicieid.org/comments. Written statements, with nine copies, may also be submitted to Mr. Berthiaume, Advisory Committee on Increasing Competitive Integrated Employment for Individuals with Disabilities, U.S. Department of Labor, Suite S-1303, 200 Constitution Avenue NW., Washington, DC 20210.

Please ensure that any written submission is in an accessible format or the submission will be returned. Further, it is requested that statements not be included in the body of an email. Statements deemed relevant by the Committee and received on or before January 8, 2016 will be included in the record of the meeting. Do not include any personally identifiable information (such as name, address, or other contact information) or confidential business information that you do not want publicly disclosed.

Jennifer Sheehy,
Deputy Assistant Secretary, Office of Disability Employment Policy.

[FR Doc. 2015-31615 Filed 12-15-15; 8:45 am]

BILLING CODE 4510-FK-P